DEPARTMENT OF COMMERCE

[Docket No.: 040203037-4037-01]

Privacy Act System of Records

AGENCY: Department of Commerce.

ACTION: Notice; Commerce/ITA-7: Export.gov Community Registration.

SUMMARY: The Department of Commerce (Commerce) publishes this notice to announce the effective date of a Privacy Act System of Records notice entitled Commerce/ITA System 7: Export.gov Community Registration.

DATES: The system of records becomes effective on February 11, 2004.

ADDRESSES: For a copy of the system of records please mail requests to Gordon Keller, U.S. Department of Commerce, International Trade Administration, Room 1850, 1401 Constitution Avenue, NW., Washington, DC 20230, 202-482-3801.

FOR FURTHER INFORMATION CONTACT: Gordon Keller, U.S. Department of Commerce, International Trade Administration, Room 1850, 1401Constitution Ave., NW., Washington, DC 20230, 202-482-3801.

SUPPLEMENTARY INFORMATION: On December 17, 2003, the Commerce published and requested comments on a proposed Privacy Act System of Records notice entitled Commerce/ITA System 7: Export.gov Community Registration (68 FR 70224, December 17, 2003). No comments were received in response to the request for comments. By this notice, the Department is adopting the proposed system as final without changes effective February 11, 2004.

Dated: February 5, 2004.
Brenda Dolan,
Department of Commerce, Freedom of Information/Privacy Act Officer.

[FR Doc. 04-2897 Filed 2-10-04; 8:45 am]

BILLING CODE 3510-25-P